DEPARTMENT OF COMMERCE

National Oceanic and Atmospheric Administration

[RTID 0648-XE699]

Research Track Assessment for Atlantic Herring; Public Meeting

AGENCY: National Marine Fisheries Service (NMFS), National Oceanic and Atmospheric Administration (NOAA), Commerce.

ACTION: Notice of public meeting.

SUMMARY: NMFS will convene the Research Track Assessment Peer Review Meeting for the purpose of reviewing the Atlantic herring stock. The Research Track Assessment Peer Review is a formal scientific peer-review process for evaluating and presenting stock assessment results to managers for fish stocks in the offshore U.S. waters of the northwest Atlantic. Assessments are prepared by the research track working group and reviewed by an independent panel of stock assessment experts from the Center of Independent Experts. The public is invited to attend the presentations and discussions between the review panel and the scientists who have participated in the stock assessment process.

DATES: The public portion of the Research Track Assessment Peer Review Meeting will be held from March 10, 2025-March 13, 2025. The meeting will conclude on March 14, 2025 at 5 p.m. Eastern Standard Time. Please see SUPPLEMENTARY INFORMATION for the daily meeting agenda.

ADDRESSES: The meeting will be held in person and virtually. The in-person meeting will be held in the S.H. Clark Conference Room in the Aquarium Building of the National Marine Fisheries Service, Northeast Fisheries Science Center (NEFSC), 166 Water Street, Woods Hole, MA 02543 and virtually using this Google Meet link: https://meet.google.com/her-pcjt-aog.

FOR FURTHER INFORMATION CONTACT: Brian Hooper, 508-258-9580; brian.hooper@noaa.gov.

SUPPLEMENTARY INFORMATION: For further information, please visit the NEFSC website at https://www.fisheries.noaa.gov/new-england-mid-atlantic/population-assessments/fishery-stock-assessments-new-england-and-mid-atlantic. For additional information about research track assessment peer review, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Time | Topic | Presenter(s) | Notes
Monday, March 10, 2025
9 a.m.-9:15 a.m | Welcome, Introductions & Agenda Logistics | Conor McManus, Panel Chair; Brian Hooper, Assessment Process Lead
9:15 a.m.-9:30 a.m | Research Track Process Overview | Kristan Blackhart, NEFSC PopDy Branch Chief
9:30 a.m.-10 a.m | Overview of Herring Research Track | Matthew Cieri
10 a.m.-10:30 a.m | Management History and Currant Practices | Jaime Cournane
10:30 a.m.-10:45 a.m | Break
10:45 a.m.-12 p.m | Term of Reference (TOR) 1—Ecosystem and Socioeconomic Profile & Supporting Analysis | Adelle Molina | Ecosystem.
12 p.m.-1 p.m | Lunch
1 p.m.-2 p.m | TOR 1—Copepods & Vector Autoregressive Spatio-Temporal (VAST) model | Sarah Gaichas | Ecosystem.
2 p.m.-3 p.m | TOR 1—Haddock Predation | Micah Dean | Ecosystem.
3 p.m.-3:15 p.m | Break
3:15 p.m.-4 p.m | TOR 1—Stakeholder Observations | Jaime Cournane | Ecosystem.
4 p.m.-4:15 p.m | Public Comment | Public
4:15 p.m.-5 p.m | Discussion/Summary | Review Panel | Conclusions, Recommendations & Final Wrap-up of TOR 1.
5 p.m | Adjourn
Tuesday, March 11, 2025
9 a.m.-9:05 a.m | Welcome/Logistics/Agenda | Conor McManus, Panel Chair; Brian Hooper, Assessment Process Lead
9:05 a.m.-10:30 a.m | TOR 2 | Ashley Asci, Matthew Cieri | Catch.
10:30 a.m.-10:45 a.m | Break
10:45 a.m.-12 p.m | TOR 3 | Mathew Cieri | Surveys.
12 p.m.-1 p.m | Lunch
1 p.m.-3 p.m | TOR 4 | Jonathan Deroba | Model.
3 p.m.-3:15 p.m | Break
3:15 p.m.-3:45 p.m | TOR 4, continued | Jonathan Deroba | Model.
3:45 p.m.-4 p.m | Public Comment | Public
4 p.m.-5 p.m | Discussion/Summary | Review Panel | Conclusions, Recommendations & Final Wrap-up of TORs 2, 3 & 4.
5 p.m | Adjourn
Wednesday, March 12, 2025
9 a.m.-9:05 a.m | Welcome/Logistics/Agenda | Conor McManus, Panel Chair; Brian Hooper, Assessment Process Lead
9:05 a.m.-10 a.m | Review Homework | Conor McManus | If needed.
10 a.m.-10:30 a.m | TOR 5 | Jonathan Deroba | Biological Reference Points (BRPs).
10:30 a.m.-10:45 a.m | Break
10:45 a.m.-12 p.m | TOR 5, continued | Jonathan Deroba | BRPs.
12 p.m.-1 p.m | Lunch
1 p.m.-3 p.m | TOR 6 | Jonathan Deroba | Projections.
3 p.m.-3:15 p.m | Break
3:15 p.m.-4 p.m | TOR 8 | Jonathan Deroba | Backup Approach.
3:45 p.m.-4 p.m | Public Comment | Public
4 p.m.-5 p.m | Discussion/Summary | Review Panel | Conclusions, Recommendations & Final Wrap-up for TORs 4, 5, 6 & 8.
5 p.m | Adjourn
Thursday, March 13, 2025
9 a.m.-9:05 a.m | Welcome/Logistics/Agenda | Conor McManus, Panel Chair; Brian Hooper, Assessment Process Lead
9:05 a.m.-10 a.m | Review Homework | Conor McManus | If needed.
10 a.m.-10:30 a.m | TOR 7 | Jaime Cournane | Research Recommendations.
10:30 a.m.-10:45 a.m | Break
10:45 a.m.-12 p.m | TOR 7, continued | Jaime Cournane | Research Recommendations.
12 p.m.-1 p.m | Lunch
1 p.m.-3 p.m | Revisit any remaining issues | Conor McManus | If needed.
3:15 p.m.-3:30 p.m | Public Comment | Public
3:30 p.m.-5 p.m | Discussion/Summary | Review Panel | Conclusions, Recommendations & Final Wrap-up for TOR 7, any remaining issues.
5 p.m | Adjourn
Friday, March 14, 2025
9 a.m.-5 p.m | Report Writing | Review Panel | If necessary, open session may be reconvened to revisit any remaining issues.
5 p.m | Adjourn

The meeting is open to the public; however, during the `Report Writing' session on Friday, March 14th, the public should not engage in discussion with the Peer Review Panel.

Special Accommodations

This meeting is physically accessible to people with disabilities. Special requests should be directed to Brian Hooper, via the email provided in the ADDRESSES section.

Authority: 16 U.S.C. 1801 et seq.

Dated: February 25, 2025.
Karen H. Abrams,
Acting Director, Office of Sustainable Fisheries, National Marine Fisheries Service.

[FR Doc. 2025-03358 Filed 2-28-25; 8:45 am]

BILLING CODE 3510-22-P